SOCIAL SECURITY ADMINISTRATION

Rescission of Social Security Acquiescence Ruling 00-4(2)

AGENCY: Social Security Administration.

ACTION: Notice of Rescission of Social Security Acquiescence Ruling (AR) 00-4(2)—Curry v. Apfel, 209 F.3d 117 (2d Cir. 2000).

SUMMARY: In accordance with 20 CFR 402.35(b)(2), 404.985(e), and 416.1485(e), the Commissioner of Social Security gives notice of the rescission of Social Security AR 00-4(2).

EFFECTIVE DATE: The rescission of this AR is effective on September 25, 2003.

FOR FURTHER INFORMATION CONTACT: Gary Sargent, Office of Acquiescence and Litigation Coordination, Social Security Administration, 6401 Security Boulevard, Baltimore, MD 21235-6401, (410) 965-1695.

SUPPLEMENTARY INFORMATION: An AR explains how we will apply a holding in a decision of a United States Court of Appeals that we determine conflicts with our interpretation of a provision of the Social Security Act (the Act) or regulations when the Government has decided not to seek further review of that decision or is unsuccessful on further review.

As provided by 20 CFR 404.985(e)(4) and 416.1485(e)(4), we may rescind an AR as obsolete if we subsequently clarify, modify or revoke the regulation or ruling that was the subject of the circuit court holding for which the Acquiescence Ruling was issued.

On September 11, 2000, we published AR 00-4(2) (65 FR 54879) to reflect the holding in Curry v. Apfel, 209 F.3d 117 (2d Cir. 2000). In Curry, the United States Court of Appeals for the Second Circuit held that, at step five of the sequential evaluation process for determining disability, we have the burden of proving that a claimant has the residual functional capacity to perform other work which exists in the national economy.

In this issue of the Federal Register, we are publishing final rules that, among other things, amend Social Security Regulations No. 4 and 16 (20 CFR 404.1512(c) and (g), 416.912(c) and (g), 404.1520(g), 416.920(g), 404.1545(a)(3) and (5), 416.945(a)(3) and (5), 404.1560(c) and 416.960(c)) to clarify our rules about the responsibility that you have to provide evidence and the responsibility that we have to develop evidence in connection with your claim of disability. When we decide your case at step five of the sequential evaluation process, we are responsible for providing evidence that demonstrates other work that you can do exists in significant numbers in the national economy. However, we do not have the burden to prove what your residual functional capacity is. The final rules also explain that we use at step five the same residual functional capacity assessment that we used for determining whether you could do your past relevant work at step four of the sequential evaluation process. We explain in the preamble to the final rules that these clarifying regulatory amendments are consistent with the Supreme Court's decision in Bowen v. Yuckert, 482 U.S. 137, 146 n.5 (1987).

Because these changes in our regulations clarify our policy that was the subject of the Curry AR, we are rescinding AR 00-4(2) concurrently with the effective date of the final rules. The final rules and this notice of rescission restore uniformity to our nationwide system of rules, in accordance with our commitment to the goal of administering our programs through uniform national standards.

We will continue to apply this AR to your claim if it is readjudicated under our acquiescence regulations (20 CFR 404.985(b)(2) and 416.1485(b)(2)).

(Catalog of Federal Domestic Assistance, Program Nos. 96.001 Social Security—Disability Insurance; 96.002 Social Security—Retirement Insurance; 96.004 Social Security—Survivors Insurance; 96.006—Supplemental Security Income)

Dated: May 22, 2003.
Jo Anne B. Barnhart,
Commissioner of Social Security.

[FR Doc. 03-21612 Filed 8-25-03; 8:45 am]

BILLING CODE 4191-02-P